DEPARTMENT OF TRANSPORTATION

Federal Aviation Administration

14 CFR Part 65

[Docket No. FAA-2010-1060]

Policy Clarifying Definition of “Actively Engaged” for Purposes of Inspector Authorization; Correction

AGENCY: Federal Aviation Administration, Department of Transportation (DOT).

ACTION: Notice of policy; correction.

SUMMARY: This action corrects the description of the appeals process for applicants or holders of an Inspection Authorization (IA) set forth in a prior Federal Register notice of policy. On August 4, 2011, the Federal Aviation Administration published a document in the Federal Register concerning a notice of policy to clarify the definition of “Actively Engaged” for the purposes of applying for or renewing an IA. That notification contained incorrect information regarding the appeals process for the denial of an IA application for initial issuance or renewal.

DATES: February 23, 2026.

FOR FURTHER INFORMATION CONTACT: Colby Barron, Airmen Section, AFS-320, Federal Aviation Administration, 800 Independence Ave. SW, Washington, DC 20591; telephone (509) 389-1995; email: colby.barron@faa.gov.

SUPPLEMENTARY INFORMATION:

Correction

In the Federal Register of August 4, 2011, at 76 FR 47058, on page 47059, in the fourth paragraph of the third column, the FAA incorrectly described the appeals process available to applicants that are denied issuance or renewal of an inspection authorization (IA) under 14 CFR part 65. The notification stated that the issuance or renewal of an IA is not a certificate action and that action on an IA application could be addressed through the Aviation Safety Consistency and Standardization Initiative. This information is incorrect; the notification should have stated that a denial of an IA application is appealable to the National Transportation Safety Board (NTSB). The NTSB has considered cases involving the denial of IA applications in the past. See, e.g., Whetsel, 4 N.T.S.B. 1863 (1984), Petition of Deville, NTSB Order NO. EA-5095 (2004).

This Notice of Policy is issued in accordance with 49 U.S. Code 44701 and 44703.

Issued in Washington, DC.
Hugh J. Thomas,
Acting Executive Director, Flight Standards Service.

[FR Doc. 2026-03483 Filed 2-20-26; 8:45 am]

BILLING CODE 4910-13-P